DEPARTMENT OF DEFENSE

Office of the Secretary

[Transmittal No. 16-57]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Pamela Young, DSCA/SA&E-RAN, (703) 697-9107.

The following is a copy of a letter to the Speaker of the House of Representatives, Transmittal 16-57 with attached Policy Justification and Sensitivity of Technology.

Dated: January 5, 2017.
Aaron Siegel,
Alternate OSD Federal Register Liaison Officer, Department of Defense.

Transmittal No. 16-57

Notice of Proposed Issuance of Letter of Offer Pursuant to Section 36(b)(1) of the Arms Export Control Act, as amended

(i) Prospective Purchaser: Government of Norway

(ii) Total Estimated Value:

Major Defense Equipment * | $1.40 billion
Other | $ .35 billion
TOTAL | $1.75 billion

(iii) Description and Quantity or Quantities of Articles or Services under Consideration for Purchase:

Major Defense Equipment (MDE):

Five (5) P-8A Patrol Aircraft, each includes: Commercial Engines, Tactical Open Mission Software (TOMS), Electro-Optical (EO) and Infrared (IO) MX-20HD, AN/AAQ-2(V)1 Acoustic System, AN/APY-10 Radar, ALQ-240 Electronic Support Measures

Eleven (11) Multifunctional Distribution System Joint Tactical Radio Systems (MIDS JTRS)

Eight (8) Guardian Laser Transmitter Assemblies (GLTA) for the AN/AAQ-24(V)N Eight (8) System Processors for AN/AAQ-24(V)N

Forty-two (42) AN/AAR-54 Missile Warning Sensors for the AN/AAQ-24(V)N

Fourteen (14) LN-251 with Embedded Global Positioning Systems (GPS)/Inertial Navigations Systems (EGIs)

Two thousand (2,000) AN/SSQ-125 Multi-Static Active Coherent (MAC) Source Sonobuoys

Non-MDE includes: Spares, spare engine, support equipment, operational support systems for Tactical Operations Center and Mobile Tactical Operations Center (ToC/MToC), training, maintenance trainer/classrooms, publications, software, engineering and logistics technical assistance, Foreign Liaison Officer support, contractor engineering technical services, repair and return, transportation, aircraft ferry, and other associated training and support.

(iv) Military Department: Navy (SAN)

(v) Prior Related Cases, if any: This would be Norway's first purchase of the P-8A Patrol Aircraft. Norway has one related P-8A case, NO-P-GEN, which provides P-8A study and technical analysis support.

(vi) Sales Commission, Fee, etc., Paid, Offered, or Agreed to be Paid: None

(vii) Sensitivity of Technology Contained in the Defense Article or Defense Services Proposed to be Sold: See Annex Attached

(viii) Date Report Delivered to Congress: December 20, 2016

*as defined in Section 47(6) of the Arms Export Control Act.

Policy Justification

Norway—P-8A Aircraft and Associated Support

Norway has requested a possible sale of up to five (5) P-8A Patrol Aircraft, each includes: Commercial Engines, Tactical Open Mission Software (TOMS), Electro-Optical (EO) and Infrared (IO) MX-20HD, AN/AAQ-2(V)1 Acoustic System, AN/APY-10 Radar, ALQ-240 Electronic Support Measures. Also included are eleven (11) Multifunctional Distribution System Joint Tactical Radio Systems (MIDS JTRS); eight (8) Guardian Laser Transmitter Assemblies (GLTA) for the AN/AAQ-24(V)N; eight (8) System Processors for AN/AAQ-24(V)N; forty-two (42) AN/AAR- 54 Missile Warning Sensors for the AN/AAQ-24(V)N; fourteen (14) LN-251 with Embedded Global Positioning Systems (GPS)/Inertial Navigation Systems (EGIs); and two thousand (2,000) AN/SSQ-125 Multi-Static Active Coherent (MAC) Source Sonobouys; spares; spare engine; support equipment; operational support systems; training; maintenance trainer/classrooms; publications; software; engineering and logistics technical assistance; Foreign Liaison Officer support; contractor engineering technical services; repair and return; transportation; aircraft ferry; and other associated training and support. The total estimated program cost is $1.75 billion.

This proposed sale will contribute to the foreign policy and national security of the United States by helping to improve the security of a NATO ally which has been, and continues to be, an important force for political stability throughout the world. The proposed sale will allow Norway to maintain its Maritime Patrol Aircraft (MPA) capability following retirement of its P-3C MPA. This sale will strengthen collective NATO defense and enhance Norway's regional and global allied contributions.

Norway has procured and operated U.S. produced P-3 Orion MPAs for over 40 years, providing critical capabilities to NATO and coalition maritime operations. Norway has maintained a close MPA acquisition and sustainment relationship with the U.S. Navy over this period. The proposed sale will allow Norway to recapitalize, modernize, and sustain its MPA capability for the next 30 years. As a long-time P-3 operator, Norway will have no difficulty transitioning its MPA force to the P-8A and absorbing these aircraft into its armed forces.

The proposed sale of this equipment and support will not alter the basic military balance in the region.

The prime contractor involved in this sale is The Boeing Company, Seattle, WA. Additional contractors include: Air Cruisers Co, LLC; Arnprior Aerospace, Canada; AVOX Zodiac Aerospace; BAE; Canadian Commercial Corporation (CCC)/EMS; Compass David Clark; DLS/ViaSat, Carlsbad, CA; DRS; Exelis, McLean, VA; GC Micro, Petaluma, CA; General Electric, UK; Harris; Joint Electronics; Martin Baker; Northrop Grumman Corp, Falls Church, VA; Pole Zero, Cincinnati, OH; Raytheon, Waltham, MA; Raytheon, UK; Rockwell Collins, Cedar Rapids, IA; Spirit Aero, Wichita, KS; Symmetries Telephonies, Farmingdale, NY; Terma, Arlington, VA; Viking; and WESCAM. Norway does require an offset agreement. Any offset agreement will be defined in negotiations between the purchaser and the prime contractor.

Implementation of the proposed sale will require approximately five (5) contractor personnel to support the program in Norway.

There will be no adverse impact on U.S. defense readiness as a result of this proposed sale.

Transmittal No. 16-57

Notice of Proposed Issuance of Letter of Offer Pursuant to Section 36(b)(1) of the Arms Export Control Act

Annex Item No. vii

(vii) Sensitivity of Technology:

1. The P-8A aircraft is a militarized version of the Boeing 737-800 Next Generation (NG) commercial aircraft. The P-8A is replacing the P-3C as the Navy's long-range anti submarine warfare (ASW), anti-surface warfare (ASuW), intelligence, surveillance and reconnaissance (ISR) aircraft capable of broad-area, maritime, and littoral operations. The overall highest classification of the P-8A weapon system is SECRET. The P-8A mission systems hardware is largely unclassified, while individual software elements (mission systems, acoustics, ESM, etc.) are classified up to SECRET.

2. P-8A mission systems include:

a. Tactical Open Mission Software (TOMS). TOMS functions include environment planning, tactical aids, weapons planning aids, and data correlation. TOMS includes an algorithm for track fusion which automatically correlates tracks produced by on board and off board sensors.

b. Electro-Optical (EO) and Infrared (IR) MX-20HD. The EO/IR system processes visible EO and IR spectrum to detect and image objects.

c. AN/AQQ-2(V)1 Acoustic System. The Acoustic sensor system is integrated within the mission system as the primary sensor for the aircraft ASW missions. The system has multi-static active coherent (MAC) 64 sonobuoy processing capability and acoustic sensor prediction tools.

d. AN/APY-10 Radar. The aircraft radar is a direct derivative of the legacy AN/APS- 137(V) installed in the P-3C. The radar capabilities include GPS selective availability anti-spoofing, SAR and ISAR imagery resolutions, and periscope detection mode.

e. ALQ-240 Electronic Support Measures (ESM). This system provides real time capability for the automatic detection, location, measurement, and analysis of RF-signals and modes. Real time results are compared with a library of known emitters to perform emitter classification and specific emitter identification (SEI).

f. Electronic Warfare Self Protection (EWSP). The aircraft EWSP consists of the ALQ-213 Electronic Warfare Management System (EWMS), ALE-47 Countermeasures Dispensing System (CMDS), and the AN/AAQ-24 Directional Infrared Countermeasure (DIRCM)/AAR-54 Missile Warning Sensors (MWS). The EWSP includes threat information.

3. If a technologically advanced adversary was to obtain access of the P-SA specific hardware and software elements, systems could be reverse engineered to discover USN capabilities and tactics. The consequences of the loss of this technology, to a technologically advanced or competent adversary, could result in the development of countermeasures or equivalent systems, which could reduce system effectiveness or be used in the development of a system with similar advanced capabilities.

4. A determination has been made that the recipient government can provide substantially the same degree of protection, for the technology being released as the U.S. Government. Support of the P-8A Patrol Aircraft to the Government of the Norway is necessary in the furtherance of U.S. foreign policy and national security objectives.

5. All defense articles and services listed in this transmittal have been authorized for release and export to the Government of Norway.

[FR Doc. 2017-00248 Filed 1-9-17; 8:45 am]

BILLING CODE 5001-06-P